DEPARTMENT OF COMMERCE

National Oceanic and Atmospheric Administration

RIN 0648-XD164

New England Fishery Management Council (NEFMC); Public Meeting

AGENCY: National Marine Fisheries Service (NMFS), National Oceanic and Atmospheric Administration (NOAA), Commerce.

ACTION: Notice; public meeting.

SUMMARY: The New England Fishery Management Council (Council) is scheduling a public meeting of its Scientific and Statistical Committee (SSC) to consider actions affecting New England fisheries in the exclusive economic zone (EEZ). Recommendations from this group will be brought to the full Council for formal consideration and action, if appropriate.

DATES: This meeting will be held on Thursday, March 27, 2014, at 8:30 a.m.

ADDRESSES:

Meeting address: The meeting will be held at the Omni Hotel, 1 West Exchange Street, Providence, RI 02903; telephone: (401) 598-8000; fax: (401) 598-8200.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The NEFMC's Scientific and Statistical Committee (SSC) will meet to discuss the role of social scientists on the SSC, how fishermen might be involved in SSC work and the use of multiple models in assessment and catch advice. The SSC also will hear an update on the work of the Council's Risk Policy Working Group and a presentation on the National Academy of Sciences report, Evaluating the Effectiveness of Fish Stock Rebuilding Plans in the United States.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 5, 2014.
Tracey L. Thompson,
Acting Deputy Director, Office of Sustainable Fisheries, National Marine Fisheries Service.

[FR Doc. 2014-05064 Filed 3-7-14; 8:45 am]

BILLING CODE 3510-22-P